DEPARTMENT OF LABOR

Occupational Safety and Health Administration

[Docket No. OSHA-2009-0001]

Advisory Committee on Construction Safety and Health (ACCSH) and ACCSH Work Group; Meetings

AGENCY: Occupational Safety and Health Administration (OSHA), Department of Labor.

ACTION: Announcement of a meeting of the Advisory Committee on Construction Safety and Health (ACCSH) and ACCSH Work Group meetings.

SUMMARY: ACCSH will meet April 16-17, 2009, and ACCSH Work Groups will meet April 14-15, 2009, in Washington, DC.

DATES:

ACCSH: ACCSH will meet from 8:30 a.m. to 4:30 p.m., Thursday, April 16, 2009, and from 8:30 a.m. to 1 p.m., Friday, April 17, 2009.

ACCSH Work Groups: ACCSH Work Groups will meet Tuesday, April 14, and Wednesday, April 15, 2009. (For Work Group meeting times, see the Work Group Schedule information in the SUPPLEMENTARY INFORMATION section of this notice.)

Submission of Comments, Requests to Speak and Requests for Special Accommodation: Comments, requests to speak at the ACCSH meeting and requests for special accommodation must be submitted (postmarked, sent, transmitted) by April 8, 2009.

ADDRESSES: ACCSH and ACCSH Work Group Meetings: ACCSH and ACCSH Work Group meetings will be held in Rooms N-3437 A-C of the Frances Perkins Building, U.S. Department of Labor, 200 Constitution Avenue, NW., Washington, DC 20210.

Submission of Comments, Requests to Speak at the ACCSH or ACCSH Work Group Meetings: Interested parties may submit comments and requests to speak using any one of the following methods:

Electronically: You may submit materials, including attachments, electronically at http://www.regulations.gov, which is the Federal eRulemaking Portal. Follow the on-line instructions for submissions.

Facsimile (FAX): If your submission, including attachments, does not exceed 10 pages, you may fax it to the OSHA Docket Office at: (202) 693-1648.

Mail, Hand Delivery, Express Mail, Messenger, or Courier Service: Submit three copies of your submissions to the OSHA Docket Office, Room N-2625, U.S. Department of Labor, 200 Constitution Avenue, NW., Washington, DC 20210. Deliveries (hand, express mail, messenger, and courier service) are accepted during the Department of Labor's and OSHA Docket Office's normal business hours, 8:15 a.m.-4:45 p.m., e.t. For assistance submitting materials to the OSHA's Docket Office, please call: telephone (202) 693-2350 (TTY (877) 889-5627).

Requests for Special Accommodations: Submit requests for special accommodations by telephone, e-mail or hard copy to Ms. Veneta Chatmon, OSHA, Office of Communications, Room N-3647, U.S. Department of Labor, 200 Constitution Avenue, NW., Washington, DC 20210; telephone (202) 693-1999; e-mail chatmon.veneta@dol.gov.

Instructions: All submissions, requests to speak and requests for special accommodations must include the Agency name and the docket number for this meeting (Docket No. OSHA-2009-0001). Because of security-related procedures, submissions by regular mail may experience significant delays.

Comments and requests to speak, including personal information, are placed in the public docket without change and may be available online. Therefore, OSHA cautions against submitting certain personal information such as social security numbers and birthdates. For further information on submitting comments, requests to speak, and requests for public accommodation, see the Public Participation information in the SUPPLEMENTARY INFORMATION section of this notice.

FOR FURTHER INFORMATION CONTACT:

For Press Inquiries: Ms. Jennifer Ashley, OSHA, Office of Communications, Room N-3647, U.S. Department of Labor, 200 Constitution Avenue, NW., Washington, DC 20210; telephone (202) 693-1999.

For General Information About ACCSH and ACCSH Meetings: Mr. Michael Buchet, OSHA, Directorate of Construction, Room N-3468, U.S. Department of Labor, 200 Constitution Avenue, NW., Washington, DC 20210; telephone (202) 693-2020; e-mail buchet.michael@dol.gov.

For Special Accommodations for the Meetings: Ms. Veneta Chatmon, OSHA, Office of Communications, Room N-3647, U.S. Department of Labor, 200 Constitution Avenue, NW., Washington, DC 20210; telephone (202) 693-1999; e-mail chatmon.veneta@dol.gov.

SUPPLEMENTARY INFORMATION:

ACCSH Meeting

ACCSH will meet Thursday, April 16, 2009 and Friday, April 17, 2009, in Washington, DC. The meeting is open to the public.

ACCSH is authorized to advise the Secretary of Labor and Assistant Secretary of Labor for Occupational Safety and Health in the formulation of standards affecting the construction industry and on policy matters arising in the administration of the safety and health provisions of the Contract Work Hours and Safety Standards Act (Construction Safety Act) (40 U.S.C. 3701, 3704) and the Occupational Safety and Health Act of 1970 (29 U.S.C. 651 et seq.). (See also 29 CFR 1911.10 and 1912.3).

The agenda topics for this meeting include:

• Remarks from the Office of the Assistant Secretary;

• Construction Update: Directorate of Construction;

• Trench Protective Systems—Trench Shoring and Shielding Association;

• Construction Stimulus Package Analysis: Major Sectors—McGraw-Hill Construction;

• Stimulus Impact on Road/Bridge Construction Safety—American Road and Transportation Builders Association;

• Stimulus Impact on Equipment Operations Safety—International Union of Operating Engineers;

• Stimulus Impact on Highway Work Zone Safety—Laborers' International Union of North America;

• Stimulus Impact on Paving and Associated Operations Safety—National Asphalt Pavers Association;

• Stimulus Impact on Transit and Other Sector Construction Safety—Associated Genreal Contractors;

• Stimulus Impact on Green Construction Safety—The Center for Construction Research and Training;

• Stimulus Challenges and Opportunities: Tracking Changes In Outcomes; Research To Practice; And Promoting Good Practice—National Institute of Occupational Safety and Health, Office of the Director;

• Work Group Reports, Work Group and Committee Administration;

• Public Comment Period.

ACCSH meetings are transcribed and detailed minutes of the meetings are prepared. Meeting transcripts and minutes are included in the record of ACCSH meetings which is available at http://www.regulations.gov. Work Group reports are also included in the ACCSH meeting record.

ACCSH Work Group Meetings

In conjunction with the ACCSH meeting, the following ACCSH Work Groups will meet on Tuesday, April 14, 2009:

• Diversity—Women in Construction, 8:15 to 9:45 a.m.;

• ROPS (Roll Over Protective Structures), 10 to 11:30 a.m.;

• Powered Fastening Tools (Nailguns), 12:30 to 2 p.m.;

• Silica, 2:15 to 3:45 p.m.; and

• Residential Fall Protection, 3:45 to 5:15 p.m.

The following additional ACCSH Work Groups will meet on Wednesday, April 15, 2009:

• Regulatory Compliance (Focused Inspections), 8:30 to 10 a.m.;

• Education and Training (OTI), 10:15 to 11:45 a.m.;

• Trenching, 12:45 to 2:15 p.m.; and

• Multilingual, 2:30 to 4 p.m.

For additional information on ACCSH Work Group meetings or participating in them, please contact Mr. Michael Buchet at the address above or look on the ACCSH page on OSHA's Web page at http://www.osha.gov.

Public Participation

ACCSH Meetings and ACCSH Work Group Meetings: ACCSH and ACCSH Work Group meetings are open to the public. Individuals needing special accommodations for ACCSH or ACCSH Work Group meetings please contact Ms. Chatmon at the address above.

Submission of written comments and requests to address ACCSH: Interested parties may submit written comments and request to make oral presentations to ACCSH (1) electronically, (2) by FAX, or (3) by hard copy (mail, hand delivery, express mail, messenger, courier). The request must include the docket number for this ACCSH meeting (Docket No. OSHA-2009-0001) and state the amount of time desired, the interest the presenter represents (e.g., businesses, organizations, themselves, affiliations, etc.), if any, and a brief outline of the presentation. Additionally at the Committee meeting, attendees may also request to address ACCSH by signing the public comment request sheet and listing the interests they represent (e.g., businesses, organizations, themselves, affiliations, etc., if any) and the topics to be addressed. Such requests may be granted at the ACCSH Chair's discretion and as time and circumstances permit.

Submissions, including written comments, materials presented to ACCSH and Work Group reports, will be included without change in the meeting record and may be made available online at http://www.regulations.gov.

Therefore, OSHA cautions interested parties about submitting certain personal information such as birth dates and social security numbers.

Access to the Record of ACCSH Meetings, Including Work Group Reports: To read or download submissions or the record of this ACCSH meeting, go to Docket No. OSHA-2009-0001 at http://www.regulations.gov.

• The meeting record and all submissions for this meeting will be listed in the http://www.regulations.gov index. Although listed in the index, some documents (e.g., copyrighted materials) are not publicly available through http://www.regulations.gov.

• The record and all submissions, including materials not available through http://www.regulations.gov will be available for inspection and copying in the OSHA Docket Office at the address above.

Authority and Signature

Mr. Donald G. Shalhoub, Deputy Assistant Secretary of Labor for Occupational Safety and Health, directed the preparation of this notice under the authority granted by section 7 of the Occupational Safety and Health Act of 1970 (29 U.S.C. 656), section 107 of the Contract Work Hours and Safety Standards Act (Construction Safety Act) (40 U.S.C. 3701 et seq.), 29 CFR 1911 and 1912, and Secretary of Labor's Order No. 5-2007 (72 FR 31160).

Signed at Washington, DC this 23rd day of March 2009.
Donald G. Shalhoub,
Deputy Assistant Secretary of Labor for Occupational Safety and Health.

[FR Doc. E9-6824 Filed 3-26-09; 8:45 am]

BILLING CODE 4510-26-P